ENVIRONMENTAL PROTECTION AGENCY

40 CFR Part 52

[EPA-R05-OAR-2010-0036; FRL-9258-8]

Approval and Promulgation of Air Quality Implementation Plans; Ohio; Volatile Organic Compound Reinforced Plastics Composites Production Operations Rule

AGENCY: Environmental Protection Agency (EPA).

ACTION: Proposed rule.

SUMMARY: EPA is proposing to approve a new rule for the control of volatile organic compound (VOC) emissions from reinforced plastic composites production operations to Ohio's State Implementation plan (SIP). This rule applies to any facility that has reinforced plastic composites production operations. This rule is approvable because it satisfies the requirements for reasonably available control technology (RACT) under the Clean Air Act (CAA).

DATES: Comments must be received on or before February 28, 2011.

ADDRESSES: Submit your comments, identified by Docket ID No. EPA-R05-OAR-2010-0036, by one of the following methods:

• http://www.regulations.gov: Follow the on-line instructions for submitting comments.

• E-mail: mooney.john@epa.gov.

• Fax: (312) 692-2511.

• Mail: John Mooney, Chief, Attainment Planning and Maintenance Section, Air Programs Branch (AR-18J), U.S. Environmental Protection Agency, 77 West Jackson Boulevard, Chicago, Illinois 60604.

• Hand Delivery: John Mooney, Chief, Attainment Planning and Maintenance Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2010-0036. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov website is an “anonymous access” system, which means EPA will not know your identity or contact information unless you provide it in the body of your comment.

If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy.

Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding legal holidays. We recommend that you telephone Steven Rosenthal, Environmental Engineer, at (312) 886-6052 before visiting the Region 5 office.

FOR FURTHER INFORMATION CONTACT: Steven Rosenthal, Environmental Engineer, Attainment Planning and Maintenance Section, Air Programs Branch (AR-18J), U.S. Environmental Protection Agency, Region 5, 77 West Jackson Boulevard, Chicago, Illinois 60604, (312) 886-6052, Rosenthal.steven@epa.gov.

SUPPLEMENTARY INFORMATION: Throughout this document whenever “we,” “us,” or “our” is used, we mean EPA. This supplementary information section is arranged as follows:

I. What should I consider as I prepare my comments for EPA?

II. What action is EPA taking today and what is the purpose of this action?

III. What is EPA's analysis of Ohio's reinforced plastics composites rule?

IV. Statutory and Executive Order Reviews

I. What should I consider as I prepare my comments for EPA?

1. Identify the rulemaking by docket number and other identifying information (subject heading, Federal Register date and page number).

2. Follow directions—The EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What action is EPA taking today and what is the purpose of this action?

EPA is proposing to approve into Ohio's SIP new rule OAC 3745-21-25 “Control of VOC Emissions from Reinforced Plastic Composites Production Operations.” This rule was submitted by the Ohio EPA to EPA on November 10, 2010, and contains requirements that satisfy RACT standards for VOC emissions from reinforced plastic composites production operations. This rule is needed to establish VOC RACT requirements for such operations to replace the requirements contained in OAC rule 3745-21-07 (Control of emissions of organic materials from stationary sources) because 3745-21-07 has been revised by Ohio, and the revised rule (which is the subject of a separate Federal Register action) excludes reinforced plastic composites production operations.

III. What is EPA's analysis of Ohio's reinforced plastics composites rule?

As discussed below, this rule satisfies RACT requirements and is consistent with the CAA and EPA regulations. A general discussion of the main elements of OAC 3745-21-25 (Control of VOC emissions from reinforced plastic composites production operations) follows:

3745-21-25(A) Applicability

(A)(1)—This rule applies to any facility that has reinforced plastic composites production operations, except as otherwise provided in paragraph (A)(2).

(A)(2)—This paragraph exempts any facility in which potential VOC emissions from all reinforced plastic composites production operations combined is 10.0 tons per year or less and requires that up-to-date records be kept of the potential to emit VOC from all reinforced plastic composites production operations. However, consistent with EPA's once in/always in policy, this exclusion is not available for any facility that has, or once had, a potential to emit for VOC equal to or greater than 10.0 tons per year for all reinforced plastic composites production operations combined on or after December 14, 2010 (12 months from the effective date of an earlier version of this rule).

(A)(3)—Upon achieving compliance with this rule, the reinforced plastic composites production operations at the facility are not required to meet the requirements of 3745-21-07, which is Ohio's general rule for the control of organic materials from stationary sources that are not controlled by another specific VOC RACT rule. This exemption from 3745-21-07 is appropriate because 3745-21-25 contains VOC RACT requirements specific to reinforced plastic composites production operations, whereas 3745-21-07 is a general rule that covers a number of source categories.

However, the applicability cutoff of 3745-21-07 is 8 lbs/hour or 40 pounds/day as compared to a 25 tons VOC/year cutoff for the control requirements of 3745-21-25 for sheet molding compound (SMC) manufacturing operations. The main purpose of this rule is the control of such SMC operations because SMC machines were previously covered by 3745-21-07. Ohio EPA submitted a October 25, 2010, demonstration under section 110(l) of the CAA that the less stringent applicability cutoff in 3745-21-25 does not interfere with attainment of the National Ambient Air Quality Standards, nor interfere with any other requirement of the CAA. Ohio documented that the worst case maximum theoretical increase in uncontrolled emissions is 159 tons of VOC/year, but that the actual emission increase from this change in applicability cutoffs would be 7.1 tons of VOC/year.

In December, 2007, Ohio EPA promulgated rules in OAC Chapter 3745-110, “NOX RACT.” These rules addressed the control of emissions of oxides of nitrogen (NOX) from stationary sources such as boilers, combustion turbines, and stationary internal combustion engines. The rules were made applicable as an attainment strategy in the Cleveland-Akron-Lorain ozone moderate nonattainment area. On September 15, 2009, EPA redesignated the Cleveland-Akron-Lorain metropolitan area as attainment for the 1997 8-hour ozone NAAQS. At the same time, EPA approved a waiver, for this area, from the NOX RACT requirements of section 182(f) of the CAA. Ohio's NOX RACT rules are, therefore, surplus and can be used to offset any increase in emissions from SMC machines in Ohio. Ohio obtained 538 tons NOX/year actual (and surplus) emission reductions from the Arcelor-Mittal facility as a result of the installation of low NOX burners in its three reheat furnaces. The requirement for these low NOX burners is permanent and enforceable because they are needed to comply with OAC 3745-110, Ohio's NOX RACT rule. In the Cleveland-Akron-Lorain area, the ratio of NOX emissions to VOC emissions is approximately 1.36 pounds NOx/pound VOC. Applying this factor, the VOC offset potential for the Arcelor-Mittal facility NOX reductions is 396 tons VOC/year.

3745-21-25(B) Definitions—The definitions applicable to this rule are contained in paragraph (GG) of (OAC) Rule 3745-21-01. These definitions clearly and adequately define those terms which are needed to understand, and implement, the requirements contained in this rule.

3245-21-25(C) Affected operations—This section lists those reinforced plastic composites production operations subject to this rule such as open molding; compression/injection molding; and centrifugal casting. All of the appropriate affected operations are listed in this section. Of particular note are SMC manufacturing operations, a source category for which there are a number of sources previously covered by 3745-21-07. The main pollutant from reinforced plastic composites manufacturing operations is styrene, which is both a VOC and a hazardous air pollutant. Except for SMC machines, the other reinforced plastic composites manufacturing operations are adequately controlled by the National Emission Standards for Hazardous Air Pollutants: Reinforced Plastic Composites Production. (40 CFR part 63 subpart WWWW)

3245-21-25(D) VOC Control requirements—All affected operations must meet the work practice standards in Table 1 of this rule. If the combination of all reinforced plastic composites operations at a facility emits less than 100 tons of VOC per year, then the affected operations must meet the emission limits in Table 2 of this rule. If the combination of all reinforced plastic composites operations at a facility emits 100 tons or more of VOC per year, then the affected operations must reduce the total VOC emissions from these operations by at least 95 percent or, as an alternative, meet the VOC emission limits in Table 3 of this rule. Also, any SMC machine with uncontrolled VOC emissions of 25.0 tons or more per rolling 12-month period must be controlled by a VOC emission control system that reduces the VOC emissions from the SMC manufacturing machine by at least 95 percent. A provision of the rule allows for a site-specific alternative requirement if approved by EPA. These control requirements and applicability cutoffs are consistent with RACT.

3745-21-25(E) Emission factor determination—This section provides acceptable procedures for determining emission factors to determine compliance with certain VOC emission limits in table 2 and table 3 of this rule and to calculate VOC emissions. Emission factors approved by EPA, such as the emission factors in AP-42, may be used in lieu of a stack test. However, if a stack test is used the stack test results would supersede any published emission factors. In order to determine the monomer content of resins and gel coats, information provided by the material manufacturer, such as manufacturer's formulation data and material safety data sheets, may be relied upon unless contradicted by actual measurement results.

3745-21-25(F) Calculation of facility's VOC emission threshold—This section establishes the procedures, including use of a calculated emission factor and conducting performance testing, for calculating the facility's VOC emissions threshold in tons per year for purposes of determining which requirements apply under paragraph (D) of this rule.

3745-21-25(G)-(I)—These paragraphs provide acceptable options for meeting the VOC emissions limits for open molding and centrifugal casting operations, continuous lamination/casting operations, and pultrusion operations.

3745-21-25(J)-(K)—These paragraphs apply to wet out area(s) and oven(s) for continuous lamination/casting operations. Paragraph (J) provides an acceptable method for calculating the annual uncontrolled and controlled VOC emissions from these operations, and paragraph (K) provides an acceptable method for determining the capture efficiency of the enclosure of the wet-out area and the capture efficiency of ovens(s) from these operations.

3745-21-25(L)-(N)—These paragraphs provide acceptable procedures for calculating how much gel coat and resin is applied to the line and also for calculation of the percent reduction and a VOC emission factor to demonstrate compliance for continuous lamination/casting operations.

3745-21-25(O) Demonstration of Continuous compliance—This paragraph provides acceptable methods for establishing continuing compliance with each VOC control requirement in paragraph (D) of this rule that applies to the affected operations.

3745-21-25(P) Recordkeeping requirements—This paragraph establishes sufficient recordkeeping requirements to determine a facility's applicability and compliance status including all data, assumptions, and calculations used to determine monomer contents and VOC emission factors. There are also specific recordkeeping requirements for SMC manufacturing machines in paragraph (P)(2).

3745-21-25(Q) Reporting requirements—Semiannual compliance status reports are required for any reinforced plastic composites production operations subject to this rule. These compliance status reports must state that there were no deviations from VOC emission limitations, operating limits, or work practice standards during the reporting period. If such a deviation does occur, then detailed information is required on the deviation(s).

3745-21-25(R) Compliance dates—This paragraph requires affected operations for which installation commenced before December 14, 2009 (the effective date of an earlier version of this rule) to comply with the requirements of this rule by 12 months from December 14, 2009. Any affected operation for which installation commenced after December 14, 2009, must comply upon initial startup of the affected operation. These are reasonable compliance dates.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Nitrogen dioxide, Ozone, Reporting and recordkeeping requirements, Volatile organic compounds.

Dated: January 14, 2011.
Susan Hedman,
Regional Administrator, Region 5.

[FR Doc. 2011-1771 Filed 1-26-11; 8:45 am]

BILLING CODE 6560-50-P